DEPARTMENT OF COMMERCE

National Telecommunications and Information Administration

Digital Economy Board of Advisors Meeting

AGENCY: National Telecommunications and Information Administration, U.S. Department of Commerce.

ACTION: Notice of open meeting.

SUMMARY: This notice announces an open meeting of the Digital Economy Board of Advisors. The Board advises and provides recommendations to the Secretary of Commerce, through the Assistant Secretary of Commerce for Communications and Information and the National Telecommunications and Information Administration (NTIA), on a broad range of issues concerning the digital economy and Internet policy.

DATES: The meeting will be held on May 16, 2016, from 8:30 a.m. to 2:30 p.m., Eastern Daylight Time.

ADDRESSES: The meeting will be held at the Commerce Research Library, 1401 Constitution Avenue NW., Washington, DC 20230. Public comments may be mailed to: Digital Economy Board of Advisors, National Telecommunications and Information Administration, 1401 Constitution Avenue NW., Room 4725, Washington, DC 20230 or emailed to DEBA@ntia.doc.gov.

FOR FURTHER INFORMATION CONTACT: Evelyn Remaley, Designated Federal Officer (DFO), at (202) 482-3821 or DEBA@ntia.doc.gov; and/or visit NTIA's Web site at https://www.ntia.doc.gov/category/digital-economy-board-advisors.

SUPPLEMENTARY INFORMATION: Background: Economic prosperity is increasingly tied to the digital economy, which is a key driver of job creation, business expansion, and innovation. Indeed, virtually every modern company relies on the Internet to grow and thrive. As a result, the Department of Commerce (Department) has made technology and Internet policy a top priority, investing resources to address challenges and opportunities businesses face in a global economy.

On November 9, 2015, the Secretary of Commerce unveiled the Department's new Digital Economy Agenda, which will help businesses and consumers realize the potential of the digital economy to advance growth and opportunity. The Agenda focuses on four key objectives: Promoting a free and open Internet worldwide; promoting trust online; ensuring access for workers, families, and companies; and promoting innovation. To support the Agenda, the Secretary directed the creation of a Digital Economy Board of Advisors to enable the Department to have a mechanism for receiving regular advice from leaders in industry, academia, and civil society. See Committee Charter at https://www.ntia.doc.gov/files/ntia/publications/deba_charter_12222015.pdf. This Board is subject to the Federal Advisory Committee Act (FACA), 5 U.S.C. App. 2, and is consistent with the National Telecommunications and Information Administration Act, 47 U.S.C. 904(b). The Board functions solely as an advisory body in compliance with the FACA. For more information about the Board, visit https://www.ntia.doc.gov/category/digital-economy-board-advisors.

Matters to be Considered: The Board provides independent advice and recommendations to the Secretary, through the Assistant Secretary, on a broad range of policy issues impacting the digital economy. The Board serves as a centralized forum gathering consensus input from a wide range of stakeholders and experts. The Board's mission is to provide advice in furtherance of increasing domestic prosperity, improving education, and facilitating participation in political and cultural life through the application and expansion of digital technologies.

The Board's advice focuses on ensuring the Internet continues to thrive as an engine of growth, innovation, and free expression. In carrying out its duties, the Board's activities may include, but are not limited to:

• Gathering information and providing an analysis of challenges related to the global free flow of information over the Internet, including policies that could restrict cross-border information flows;

• Providing advice on other policy matters that impact the digital economy, such as expanding broadband capacity, enhancing cybersecurity, protecting privacy, and examining the role of intermediaries;

• Promoting the development of new digital technologies; and

• Analyzing the impact of the Internet on job growth and the economy as a whole.

The Department will use the advice provided by the Board to inform its decision-making processes and to advance administration goals.

NTIA will post a detailed agenda on its Web site, https://www.ntia.doc.gov/category/digital-economy-board-advisors, prior to the meeting. To the extent that the meeting time and agenda permit, any member of the public may speak to or otherwise address the Board regarding the agenda items during the public portion of the meeting.

Time and Date: The meeting will be held on May 16, 2016 from 8:30 a.m. to 2:30 p.m., Eastern Daylight Time. The date, times and agenda topics are subject to change. The public portion of the meeting, from 8:30 a.m. to 12:00 p.m., will be available via two-way audio link and may be webcast. The remainder of the meeting, from 12:00 to 2:30 p.m., will consist solely of preparatory and/or administrative work by the Board and will not be open to the public. See 41 CFR 102-3.160. Please refer to NTIA's Web site, https://www.ntia.doc.gov/category/digital-economy-board-advisors, for the most up-to-date meeting agenda and access information for the public portion of the meeting.

Pursuant to 41 CFR 102-3.150(b), the Federal Register notice for this meeting is being published fewer than 15 calendar days prior to the meeting as exceptional circumstances exist. It is imperative that the Board hold its inaugural meeting on May 16, 2016, to accommodate the scheduling priorities of key participants so that they may begin work in support of the Department's Digital Economy Agenda. Notice of the meeting is also posted on NTIA's Web site at https://www.ntia.doc.gov/category/digital-economy-board-advisors.

Place: The meeting will be held at the Commerce Research Library, 1401 Constitution Avenue NW., Washington, DC 20230. Public comments may be mailed to: Digital Economy Board of Advisors, National Telecommunications and Information Administration, 1401 Constitution Avenue NW., Room 4725, Washington, DC 20230. The meeting's morning session will be open to the public and press on a first-come, first-served basis. Space is limited. The public portion of the meeting is physically accessible to people with disabilities. Individuals requiring accommodations, such as sign language interpretation or other ancillary aids, are asked to notify Ms. Remaley at (202) 482-3821 or DEBA@ntia.doc.gov at least five (5) business days before the meeting.

Status: Interested parties are invited to attend and to submit written comments to the Board at any time before or after the meeting. Parties wishing to submit written comments for consideration by the Board in advance of the meeting must send them to NTIA at the above-listed address. Comments must be received five (5) business days before the scheduled meeting date to provide sufficient time for review. Comments received after this date will be distributed to the Board, but may not be reviewed prior to the meeting. It would be helpful if paper submissions also include a compact disc (CD) in Word or PDF format, labeled with the name and organizational affiliation of the filer. Alternatively, comments may be submitted electronically to DEBA@ntia.doc.gov with the subject: “DEBA First Meeting Comment.” Comments provided via electronic mail also may be submitted in one or more of the formats specified above.

Records: NTIA maintains records of all Board proceedings. Board records are available for public inspection at NTIA's Washington, DC office at the address above. Documents, including the Board's charter, member list, agendas, minutes, and any reports are available on NTIA's Web page at https://www.ntia.doc.gov/category/digital-economy-board-advisors.

Dated: April 28, 2016.
Kathy D. Smith,
Chief Counsel, National Telecommunications and Information Administration.

[FR Doc. 2016-10322 Filed 4-28-16; 4:15 pm]

BILLING CODE 3510-60-P